DEPARTMENT OF DEFENSE

Department of the Navy

Notice of Partially Closed Meeting of the Chief of Naval Operations (CNO) Executive Panel

AGENCY: Department of the Navy, DoD.

ACTION: Notice.

SUMMARY: The CNO Executive Panel will report on the findings and recommendations to the Chief of Naval Operations of the Subcommittee on Navy's Industrial Baseline in the Economic Downturn. The discussion of such information would be exempt from public disclosure as set forth in section 552b(c)(5), (6), and (7) of title 5, United States Code. For this reason the executive session of this meeting will be closed to the public.

DATES: The open session of the meeting will be held on Friday, May 29, 2009, from 12:30 p.m. to 1:15 p.m. The closed executive session will be held from 1:30 p.m. to 3:30 p.m.

ADDRESSES: The meeting will be held in Conference Room 1A01, CNA, 4825 Mark Center Drive, Alexandria, VA 22311-1846. The meeting will be handicap accessible.

FOR FURTHER INFORMATION CONTACT: Mr. Brian D. Shaw, CNO Executive Panel, 4825 Mark Center Drive, Alexandria, VA 22311-1846, telephone number: 703-681-4906.

SUPPLEMENTARY INFORMATION: This notice of meeting is provided per the Federal Advisory Committee Act, as amended (5 U.S.C. App.). The executive session of the meeting will consist of discussion of acquisition sensitive and/or business/proprietary nature. The proposed closed session from 1:30 p.m. to 3:30 p.m. will include a discussion on Navy's Industrial Baseline in the Economic Downturn. Discussion of such information cannot be adequately segregated from other topics, which precludes opening the executive session of this meeting to the public.

Accordingly, the Secretary of the Navy has determined in writing that the meeting shall be partially closed to the public because it will be concerned with matters listed in sections 552b(c)(5), and (7) of title 5, United States Code.

Dated: May 5, 2009.
A.M. Vallandingham,
Lieutenant Commander, Judge Advocate General's Corps, U.S. Navy, Federal Register Liaison Officer.

[FR Doc. E9-10945 Filed 5-8-09; 8:45 am]

BILLING CODE 3810-FF-P